DEPARTMENT OF ENERGY

Federal Energy Regulatory Commission

[Docket No. ER00-2554-000]

Kansas City Power & Light Company; Notice of Filing

May 25, 2000.

Take notice that on May 22, 2000, Kansas City Power & Light Company (KCPL), tendered for filing Service Agreements dated May 1, 2000, between KCPL and New Energy, Inc.

KCPL proposes an effective date of May 3, 2000 and requests a waiver of the Commission's notice requirement to allow the requested effective date. This Agreement provides for the rates and charges for Non-Firm and Short-term Firm Transmission Service.

In its filing, KCPL states that the rates included in the above-mentioned Service Agreement are KCPL's rates and charges in the compliance filing to FERC Order 888-A in Docket No. OA97-636-000.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before June 12, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14133 Filed 6-5-00; 8:45 am]

BILLING CODE 6717-01-M